FEDERAL RESERVE SYSTEM

Formations of, Acquisitions by, and Mergers of Bank Holding Companies; Correction

This notice corrects a notice (FR Doc. E7-16882) published on page 49009 of the issue for Monday, August 27, 2007.

Under the Federal Reserve Bank of Richmond heading, the entry for Virginia Community Capital, Inc., Christiansburg, Virginia, is revised to read as follows:

A. Federal Reserve Bank of Richmond (A. Linwood Gill, III, Vice President) 701 East Byrd Street, Richmond, Virginia 23261-4528:

1. Virginia Community Capital, Inc., which is currently operating as a Community Development Financial Institution; to become a bank holding company by acquiring 100 percent of the voting shares of Community Capital Bank of Virginia, both of Christiansburg, Virginia.

In connection with this application, Applicant also has applied to continue to engage in lending and community development activities, pursuant to sections 225.28(b)(1), (b)(12)(i), and (b)(12)(ii) of Regulation Y.

Comments on this application must be received by September 21, 2007.

Board of Governors of the Federal Reserve System, August 27, 2007.
Robert deV. Frierson,
Deputy Secretary of the Board.

[FR Doc. E7-17192 Filed 8-29-07; 8:45 am]

BILLING CODE 6210-01-S